INTERNATIONAL TRADE COMMISSION

[Investigation No. 701-TA-384 and 731-TA-806-808 (Review)]

Certain Hot-Rolled Flat-Rolled Carbon-Quality Steel Products From Brazil, Japan, and Russia

Determination

On the basis of the record ¹ developed in the subject five-year reviews, the United States International Trade Commission (Commission) determines, pursuant to section 751(c) of the Tariff Act of 1930 (19 U.S.C. 1675(c)) (the Act), that revocation of the antidumping duty and countervailing duty orders on certain hot-rolled flat-rolled carbon-quality steel products from Brazil and Japan, and termination of the suspended antidumping duty investigation on imports of certain hot-rolled flat-rolled carbon-quality steel products from Russia, would be likely to lead to continuation or recurrence of material injury to an industry in the United States within a reasonably foreseeable time.²

¹ The record is defined in sec. 207.2(f) of the Commission's Rules of Practice and Procedure (19 CFR 207.2(f)).

² Vice Chairman Deanna Tanner Okun and Commissioner Daniel R. Pearson dissenting.

Background

The Commission instituted these reviews on May 3, 2004 (69 FR 24189), and determined on August 6, 2004, that it would conduct full reviews (69 FR 52525, August 26, 2004). Notice of the scheduling of the Commission's reviews and of a public hearing to be held in connection therewith was given by posting copies of the notice in the Office of the Secretary, U.S. International Trade Commission, Washington, DC, and by publishing the notice in the Federal Register on September 9, 2004 (69 FR 54701). The hearing was held in Washington, DC, on March 2, 2005, and all persons who requested the opportunity were permitted to appear in person or by counsel.

The Commission transmitted its determination in these reviews to the Secretary of Commerce on April 28, 2005. The views of the Commission are contained in USITC Publication 3767 (April 2005), entitled Certain Hot-Rolled Flat-Rolled Carbon-Quality Steel Products from Brazil, Japan, and Russia (Inv. Nos. 701-TA-384 and 731-TA-806-808 (Review)).

By order of the Commission.
Issued: April 28, 2005.
Marilyn R. Abbott,
Secretary to the Commission.

[FR Doc. 05-8969 Filed 5-4-05; 8:45 am]

BILLING CODE 7020-02-P